DEPARTMENT OF HEALTH AND HUMAN SERVICES

Centers for Disease Control and Prevention

[Program Announcement 04088]

Planning Effective Approaches to the Delivery of Adolescent Immunization Services; Notice of Availability of Funds Amendment

A notice announcing the availability of fiscal year (FY) 2004 funds for cooperative agreements for immunization projects was published in the Federal Register March 30, 2004, Volume 69, Number 61, pages 16545-16549. The notice is amended as follows:

Page 16545 third column, and page 16548 first column, change Letter of Intent (LOI) Deadline to May 7, 2004.

Page 16546, third column, section III.1. Eligible Applicants, add “State governments” to the bulleted list.

Dated: April 29, 2004.
William P. Nichols,
Acting Director, Procurement and Grants Office, Centers for Disease Control and Prevention.

[FR Doc. 04-10173 Filed 5-4-04; 8:45 am]

BILLING CODE 4163-18-P